AGENCY FOR INTERNATIONAL DEVELOPMENT

48 CFR Part 752

RIN 0412-AA82

Agency for International Development Acquisition Regulation (AIDAR): Preference for Privately Owned U.S.-Flag Commercial Vessels

AGENCY: U.S. Agency for International Development.

ACTION: Proposed rule.

SUMMARY: This proposed rule is a companion document to the U.S. Agency for International Development (USAID) direct final rule (published in the “Rules and Regulations” section of this Federal Register), amending the AIDAR to conform to the current requirements of the Cargo Preference Act of 1954 and provide up-to-date submission instructions to the Maritime Administration (MARAD).

DATES: Submit comments on or before September 19, 2016.

ADDRESSES: Address all comments concerning this notice to Lyudmila Bond, Bureau for Management, Office of Acquisition and Assistance, Policy Division (M/OAA/P), Room 867-G, SA-44, Washington, DC 20523-2052. Submit comments by any of the following methods:

Federal eRulemaking Portal: http://www.regulations.gov. Follow the instructions for submitting comments.

Email: Submit electronic comments to lbond@usaid.gov. See SUPPLEMENTARY INFORMATION for file formats and other information about electronic filing.

Mail: USAID, Bureau for Management, Office of Acquisition & Assistance, Policy Division, Room 867-G, SA-44, 1300 Pennsylvania Ave. NW., Washington, DC 20523-2052.

FOR FURTHER INFORMATION CONTACT: Lyudmila Bond, Telephone: 202-567-4753 or Email: lbond@usaid.gov.

SUPPLEMENTARY INFORMATION: USAID is publishing this amendment as a direct final rule because the Agency views it as a conforming and administrative amendment and does not anticipate any adverse comments. A detailed discussion of the rule is set forth in the preamble of the direct final rule.

If no adverse comments are received in response to the direct final rule, no further action will be taken related to this proposed rule.

If adverse comment(s) are received on the direct final rule, USAID will publish a timely withdrawal in the Federal Register informing the public that the direct final rule will not take effect. All public comments received on the direct final rule will be addressed in a subsequent final rule based on this proposed rule. USAID will not institute a second comment period. Any parties interested in commenting on this action should do so at this time.

A. Instructions

All comments must be in writing and submitted through one of the methods specified in the Addresses section above. All submissions must include the title of the action and RIN for this rulemaking. Please include your name, title, organization, postal address, telephone number, and email address in the text of the message.

Comments submitted by email must be included in the text of the email or attached as a PDF file. Please avoid using special characters and any form of encryption. Please note, however, that because security screening precautions have slowed the delivery and dependability of surface mail to USAID/Washington, USAID recommends sending all comments to the Federal eRulemaking Portal.

After receipt of a comment and until finalization of the action, all comments will be made available at http://www.regulations.gov for public review without change, including any personal information provided. Do not submit information that you consider to be Confidential Business Information (CBI), Personally Identifiable Information or any information that is otherwise protected from disclosure by statute.

As noted above, in the “Rules and Regulations” section of this Federal Register, USAID is publishing a direct final rule with the same title that announces revisions to the Agency for International Development Acquisition Regulation (AIDAR). For detailed information on these revisions, please see the direct final rule.

Dated: July 1, 2016.
Mark Walter,
Acting Chief Acquisition Officer.

[FR Doc. 2016-17136 Filed 7-19-16; 8:45 am]

BILLING CODE 6116-01-P